DEPARTMENT OF TRANSPORTATION

Surface Transportation Board

[STB Finance Docket No. 34409]

Burlington Shortline Railroad, Inc., d/b/a Burlington Junction Railway—Lease and Operation Exemption—The Burlington Northern and Santa Fe Railway Company

Burlington Shortline Railroad, Inc., d/b/a/ Burlington Junction Railway (BJRY), a Class III rail carrier, has filed a verified notice of exemption under 49 CFR 1150.41 et seq. to lease, from The Burlington Northern and Santa Fe Railway Company (BNSF), and operate two segments of rail line known as (1) the Marblehead line and (2) the Moorman Lead line. The Marblehead line extends approximately 5.13 miles from BNSF milepost 261.32 near Quincy, IL, to BNSF milepost 266.43 near Marblehead, IL. The Moorman Lead line extends 5,100 feet southwesterly from BNSF milepost 258.2 near Quincy.

Consummation of this transaction was expected to occur on or about October 4, 2003.

BJRY certifies that its projected annual revenues as a result of this transaction will not exceed $5 million and that the transaction will not result in the creation of a Class II or Class I rail carrier.

If the verified notice contains false or misleading information, the exemption is void ab initio. Petitions to revoke the exemption under 49 U.S.C. 10502(d) may be filed at any time. The filing of a petition to revoke will not automatically stay the transaction.

An original and 10 copies of all pleadings, referring to STB Finance Docket No. 34409, must be filed with the Surface Transportation Board, 1925 K Street, NW., Washington, DC 20423-0001. In addition, a copy of each pleading must be served on John D. Heffner, 1920 N Street, NW., Suite 800, Washington, DC 20036.

Board decisions and notices are available on our Web site at “http://www.stb.dot.gov.”

Decided: October 10, 2003.
By the Board, David M. Konschnik, Director, Office of Proceedings.
Vernon A. Williams,
Secretary.

[FR Doc. 03-26289 Filed 10-20-03; 8:45 am]

BILLING CODE 4915-00-P